DEPARTMENT OF DEFENSE

Office of the Secretary

[Docket ID: DoD-2013-OS-0234]

Privacy Act of 1974; System of Records

AGENCY: Office of the Inspector General, DoD.

ACTION: Notice to amend a System of Records.

SUMMARY: The Office of the Inspector General (OIG) is amending a system of records notice, CIG-21, Congressional Correspondence Tracking System, in its existing inventory of record systems subject to the Privacy Act of 1974 (5 U.S.C. 552a), as amended. This system maintains records of all Congressional inquiries and the OIG, DoD response, and to conduct the necessary research to provide information responsive to Congressional inquiries.

DATES: This proposed action will be effective on January 27, 2014 unless comments are received which result in a contrary determination. Comments will be accepted on or before January 27, 2014.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mark Dorgan, DoD IG FOIA/Privacy Office, Department of Defense, Inspector General, 4800 Mark Center Drive, Alexandria, VA 22350-1500 or telephone: (703) 699-5680.

SUPPLEMENTARY INFORMATION: The Office of the Inspector General systems of records notices subject to the Privacy Act of 1974 (5 U.S.C. 552a), as amended, have been published in the Federal Register and are available from the address in FOR FURTHER INFORMATION CONTACT or at http://dpclo.defense.gov/privacy/SORNs/component/oig/index.html. The proposed changes to the record system being amended are set forth below. The proposed amendment is not within the purview of subsection (r) of the Privacy Act of 1974 (5 U.S.C. 552a), as amended, which requires the submission of a new or altered system report.

Dated: December 23, 2013.
Aaron Siegel,
Alternate OSD Federal Register Liaison Officer, Department of Defense.

CIG-21

System name:

Congressional Correspondence Tracking System (June 5, 2006, 71 FR 32312).

Changes:

* * * * *

System location:

Delete entry and replace with “Assistant Inspector General for Office of Communications and Congressional Liaison, Office of the Inspector General of the Department of Defense, 4800 Mark Center Drive, Alexandria, VA 22350-1500.”

* * * * *

System manager(s) and address:

Delete entry and replace with “Assistant Inspector General for Office of Communications and Congressional Liaison, Office of the Inspector General of the Department of Defense, 4800 Mark Center Drive, Alexandria, VA 22350-1500.”

Notification procedure:

Delete entry and replace with “Individuals seeking to determine whether information about themselves is contained in this system of records should address written inquiries to the Freedom of Information Act Requester Service Center/Privacy Act Office, 4800 Mark Center Drive, Alexandria, VA 22350-1500.

Written requests should contain the individual's full name and work organization.”

Record access procedures:

Delete entry and replace with “Individuals seeking access to information about themselves contained in this system of records should address written inquiries to the Freedom of Information Act Requester Service Center/Privacy Act Office, 4800 Mark Center Drive, Alexandria, VA 22350-1500.

Written requests should contain the individual's full name and work organization.”

* * * * *

[FR Doc. 2013-30997 Filed 12-26-13; 8:45 am]

BILLING CODE 5001-06-P